DEPARTMENT OF HOUSING AND URBAN DEVELOPMENT

[Docket No. FR-5642-D-04]

Redelegation of Authority to Directors and Deputy Directors of Community Planning and Development in Field Offices

AGENCY: Office of the Assistant Secretary for Community Planning and Development, HUD.

ACTION: Notice of redelegation of authority to field offices.

SUMMARY: On May 30, 2012, a new Consolidated Delegation of Authority was published in the Federal Register, at 77 FR 31972, giving concurrent authority for Community Planning and Development (CPD) programs from the Secretary of HUD to the Assistant Secretary for Community Planning and Development, the General Deputy Assistant Secretary for Community Planning and Development and the Deputy Assistant Secretary for Special Needs Programs. In this notice, the Assistant Secretary of Community Planning and Development redelegates to the Directors and Deputy Directors of Community Planning and Development in HUD Field Offices all powers and authorities necessary to carry out Office of Community Planning and Development programs, except those powers and authorities specifically excluded.

DATES: Effective Date: June 20, 2012.

FOR FURTHER INFORMATION CONTACT: David H. Enzel, Director of Technical Assistance and Management, Office of Community Planning and Development, Department of Housing and Urban Development, 451 7th Street SW., Room 7228, Washington, DC 20410-7000; telephone number 202-402-5557. This is not a toll-free number. For those needing assistance, this number may be accessed via TTY by calling the Federal Relay Service at 800-877-8339.

SUPPLEMENTARY INFORMATION: Published in the Federal Register on May 30, 2012, at 77 FR 31972, is a revised consolidated delegation of authority from the Secretary of HUD to the Assistant Secretary, the General Deputy Assistant Secretary for CPD, and the Deputy Assistant Secretary for Special Needs Programs. This notice updates and revises redelegations of authority from the Assistant Secretary for Community Planning and Development to CPD Directors and Deputy Directors in HUD Field Offices. This notice supersedes all previous redelegations of authority to CPD Directors and Deputy Directors in HUD Field Offices, including a redelegation published on October 18, 2011 at 76 FR 64364. Also published elsewhere in today's Federal Register is a redelegation of authority from the Assistant Secretary for CPD to the Deputy Assistant Secretaries and other specified HUD officials.

Section A. General Redelegation of Authority

Except those authorities specifically excluded, the Assistant Secretary redelegates to the Directors and Deputy Directors of Community Planning and Development in HUD Field Offices all powers and authorities of the Assistant Secretary necessary to carry out the following Community Planning and Development programs and matters:

1. Community Development Block Grants (CDBG), Section 108 Loan Guarantees, Neighborhood Stabilization Programs (NSP), CDBG Disaster Recovery Grants, and other programs covered by Title I of the Housing and Community Development Act of 1974, Public Law 93-383, 88 Stat. 633 (codified as amended at 42 U.S.C. 5301 et seq.); 24 CFR part 570.

Authority not redelegated:

a. Terminate, reduce, or limit the availability of grant payments pursuant to section 111(a), 42 U.S.C. 5311.

b. Adjust entitlement and state grants pursuant to section 104(e), 42 U.S.C. 5304.

c. Determine basic grant amounts for metropolitan cities, urban counties, and States pursuant to section 106, 42 U.S.C. 5306.

d. Reallocate funds pursuant to section 106(c) or (d), 42 U.S.C. 5306.

e. Determine the qualifications of localities for special consideration. This includes, but is not limited to, the determination of qualifications of counties as urban counties pursuant to section 102(a)(6), 42 U.S.C. 5302, the determination of what constitutes a city pursuant to section 102(a)(5), 42 U.S.C. 5302, and the determination of levels of physical and economic distress of cities and urban counties for eligibility for urban development action grants pursuant to section 119(b), 42 U.S.C. 5318.

f. Approve and disapprove applications, or amendments to applications, filed for loan guarantee or grant assistance, issue commitments or grant awards, execute grant agreements, or issue guarantees pursuant to section 108, 42 U.S.C. 5308.

2. Comprehensive Housing Affordability Strategies (CHAS), Title I of the Cranston-Gonzalez National Affordable Housing Act, Public Law 101-625, 104 Stat. 4079 (1990) (codified as amended at 42 U.S.C. 12701 et seq.); consolidated plans, 24 CFR part 91.

3. Emergency Shelter Grants/Emergency Solutions Grants program, Title IV, Subtitle B of the McKinney-Vento Homeless Assistance Act, Public Law 100-77, 101 Stat. 482 (1987) (codified as amended at 42 U.S.C. 11371 et seq.), renamed by Act of Oct. 30, 2000, Public Law 106-400, 114 Stat. 1675 (2000); 24 CFR part 576.

Authority not redelegated:

a. Determine allocation amounts.

b. Approve built-in waivers or exceptions authorized under Title IV of the McKinney-Vento Homeless Assistance Act and applicable implementing regulations (such as section 414(b), 42 U.S.C. 11374(b); 24 CFR 576.21(b)(2) and section 415(d), 42 U.S.C. 11375(d); 24 CFR 576.56(b); 24 CFR 576.57(d).

4. The HOME Investment Partnerships Act, Title II of the Cranston-Gonzalez National Affordable Housing Act (NAHA), Public Law 101-625, 104 Stat. 4094 (1990) (codified as amended at 42 U.S.C. 12721 et seq.); 24 CFR part 92.

Authority not redelegated:

a. Determine allocation and reallocation amounts pursuant to section 217 of NAHA.

b. Revoke a jurisdiction's designation as a participating jurisdiction pursuant to section 216 of NAHA.

c. Effect remedies for noncompliance pursuant to section 223 of NAHA.

d. Approve a change in the number of units designated as HOME-assisted units during the period of affordability pursuant to 24 CFR 92.205(d).

e. Make a determination that a consortium does not have sufficient authority and administrative capability to administer the HOME Program pursuant to 24 CFR 92.101(a)(3).

5. Housing Trust Fund (HTF), Section 1338 of the Federal Housing Enterprises Financial Safety and Soundness Act of 1992, added by Section 1131 of Public Law 110-289, 122 Stat. 2654 (codified at 12 U.S.C. 4568).

Authority not redelegated:

a. Determine allocations, adjustments, and reallocation amounts.

6. Homelessness Prevention and Rapid Re-Housing Program (HPRP) as authorized under the Homelessness Prevention Fund heading of Division A, Title XII of the American Recovery and Reinvestment Act of 2009, Public Law 111-5, 123 Stat. 115.

7. AIDS Housing Opportunity Act, Title VIII, Subtitle D of the Cranston-Gonzalez National Affordable Housing Act, Public Law 101-625, 104 Stat. 4079 (1990) (codified as amended at 42 U.S.C. 12901-12912); 24 CFR part 574.

Authority not redelegated:

a. Determine allocations, adjustments, and reallocation amounts.

b. Revoke a jurisdiction's designation as an eligible state or eligible metropolitan statistical area for a formula allocation or as an eligible applicant for a nonformula allocation.

c. Suspend or terminate current awards in whole or in part, withhold further awards, and effect other legally available remedies pursuant to 24 CFR 85.43(a)(3), (4) and (5).

d. Approve built-in waivers pursuant to section 858, 42 U.S.C. 12907(b)(1)(B); 24 CFR 574.310(c)(2).

8. Title IV Subtitles C-F of the McKinney-Vento Homeless Assistance Act, Public Law 100-77, 101 Stat. 482 (1987) (codified as amended at 42 U.S.C. 11381 et seq.), renamed by Act of Oct. 30, 2000, Public Law 106-400, 114 Stat. 1675 (2000) including the following: Supportive Housing Program, 24 CFR part 583, Shelter Plus Care program, 24 CFR part 582, Moderate Rehabilitation for Single Room Occupancy program, 24 CFR part 882, Subpart H, Continuum of Care program, and Rural Housing Stability Assistance program.

Authority not redelegated:

a. Make funding decisions.

b. Approve built-in waivers or exceptions authorized under Title IV of the McKinney-Vento Homeless Assistance Act and applicable implementing regulations (such as section 426(g), 42 U.S.C. 11386(g); 24 CFR 583.300(f); section 455(c), 42 U.S.C. 11403d(c); 24 CFR 582.300(a); section 441(h), 42 U.S.C. 11401(h); 24 CFR 882.808(q); 24 CFR 582.340(b); 24 CFR 583.330(e)).

9. Economic Development Initiative grants, as provided for in annual HUD appropriations acts (e.g., Consolidated Appropriations Resolution, Fiscal Year 2003, Public Law 108-7, 117 Stat. 11 (2003)).

10. Neighborhood Initiatives grants specifically designated in annual HUD appropriations acts (e.g., Consolidated Appropriations Act 2010, Public Law 111-117, 123 Stat. 3034 (2009)).

11. Rural Innovation Fund grants as provided for in annual HUD appropriations act(s) (e.g., Consolidated Appropriations Act 2010, Public Law 111-117, 123 Stat. 3084 (2009)).

12. The urban Empowerment Zones (EZ), as authorized under title 26, subtitle A, chapter 1, subchapter U of the Internal Revenue Code (codified as amended at 26 U.S.C. 1391 et seq.); 24 CFR parts 597 and 598.

Authority not redelegated:

a. Approve or amend strategic plans or other state and local commitments, including boundary changes.

b. Revoke a designation, including issuing a warning letter pursuant to 24 CFR parts 597 and 598.

13. Overall Departmental responsibility for compliance with the Uniform Relocation Assistance and Real Property Acquisition Policies Act of 1970, Public Law 91-646, 84 Stat. 1894 (1971) (codified as amended at 42 U.S.C. 4601 et seq.); 49 CFR part 24.

Authority not redelegated:

a. Exercise the Federal Agency waiver authority provided under 49 CFR 24.7.

14. Technical Assistance and Capacity Building awards authorized under any program or matter delegated under Section A (e.g., section 107 of the Housing and Community Development Act of 1987, Pub. L. No 100-242, 101 Stat. 1815 (1988)) and as provided for in annual and supplemental HUD appropriations acts (e.g., Consolidated Appropriations Act 2010, Pub. L. 111-117, 123 Stat. 3093 (2009)).

15. Certain Community Planning and Development programs that are no longer authorized for funding (or future funding is not anticipated) but administration of the programs must continue until all Department responsibilities are discharged and finally terminated. These programs, as of June 2011, include the following:

a. Any program superseded by, or inactive by reason of, Title I of the Housing and Community Development Act of 1974, Pub.L. No. 93-383, 88 Stat. 633 (codified as amended at 42 U.S.C. 5316).

b. Grants for urban Empowerment Zones (EZ) as provided for in annual HUD appropriations acts (e.g., Consolidated Appropriations Resolution, Fiscal Year 2003, Pub. L. 108-7, 117 Stat. 11 (2003)).

c. HOPE for Homeownership of Single-family Housing Program (HOPE 3), Title IV, Subtitle C of the Cranston-Gonzalez National Affordable Housing Act, Public Law 101-625, 104 Stat. 4079 (1990) (codified at 42 U.S.C. 12891).

d. New Communities Program, Section 413 of the Housing and Urban Development Act of 1968, Public Law 90-448, 82 Stat. 476 (repealed 1983), Section 726 of the Housing and Urban Development Act of 1970, Public Law 91-609 (repealed 1983), 84 Stat. 1784, Section 474 of the Housing and Urban-Rural Recovery Act of 1983, Public Law 98-181, 97 Stat. 1237 (codified at 12 U.S.C. 1701g-5b), and any other functions, powers and duties which may affect the liquidation of the New Communities program.

e. Rural Housing and Economic Development grants specifically designated originally in the Fiscal Year 1998 HUD Appropriations Act, Public Law 105-65, 111 Stat. 1344 (1997), and subsequent annual HUD appropriations acts.

f. Renewal Communities (RC), as authorized under Title 26, Subtitle A, Chapter 1, Subchapter X of the Internal Revenue Code (codified as amended at 26 U.S.C. 1400E et seq.); 24 CFR part 599.

g. All programs consolidated in the Revolving Fund (Liquidating Programs) established pursuant to Title II of the Independent Offices Appropriations Act, Public Law 98-45, 97 Stat. 223 (1983) (codified as amended at 12 U.S.C. 1701g-5)) including all authority of the Assistant Secretary with respect to the functions, administration and management of the Revolving Fund (Liquidating Programs). Only the Assistant Secretary is the responsible official for allotments in the Revolving Fund (Liquidating Programs).

h. Youthbuild Program, Title IV, Subtitle D of the Cranston-Gonzalez National Affordable Housing Act, Public Law 101-625, 104 Stat. 4079 (1990) (repealed 2006); 24 CFR part 585; and Youthbuild TA as authorized under Title IV of the Cranston-Gonzalez National Affordable Housing Act, as amended by the Housing and Community Development Act of 1992, Public Law 102-550, 106 Stat. 3723 (1992) (repealed 2006).

Section B. Limited Denial of Participation

Subject to the excepted authority in Section C, the Assistant Secretary redelegates to Directors and Deputy Directors of CPD in HUD Field Offices the authority to order a limited denial of participation sanction pursuant to HUD regulations at 2 CFR part 2424, with respect to the programs and matters listed in Section A; provided that the General Counsel, or such other official as may be designated by the General Counsel, must: (1) Concur in any proposed sanction under 2 CFR part 2424 before it is issued, and (2) concur in any proposed settlement of a sanction under 2 CFR part 2424.

Section C. General Authority Excepted

The authority redelegated under Section A does not include:

1. The authority to issue or waive regulations covered by section 7(q) of the Department of Housing and Urban Development Act (42 U.S.C. 3535(q));

2. The authority to sue and be sued;

3. The authority to effect remedies for noncompliance requiring notice and an opportunity for an administrative hearing;

4. The authority for allotments in the Revolving Fund (Liquidating Programs) under paragraph g of Section A; or

5. Any authority not delegated to the Assistant Secretary for CPD under the Consolidated Delegation of Authority for Community Planning and Development.

The Assistant Secretary may revoke at any time this redelegation with respect to the programs and matters listed in Section A and orders of limited denial of participation issued in accordance with Section B.

Section D. Authority To Further Redelegate

The authority redelegated in Sections A and B may not be further redelegated.

Section E. Redelegations Superseded

This notice supersedes all prior redelegations of authority from the Assistant Secretary of CPD to Directors and Deputy Directors of Community Planning and Development in HUD Field Offices, including the redelegation of authority published on October 18, 2011 at 76 FR 64364.

Section F. Actions Ratified

The Assistant Secretary hereby ratifies all actions previously taken by the Directors and Deputy Directors of CPD in HUD Field Offices with respect to the programs and matters listed in Section A and orders of limited denial of participation issued in accordance with Section B.

Authority: Section 7(d), Department of Housing and Urban Development Act, 42 U.S.C. 3535(d).

Dated: June 20, 2012.
Mark Johnston,
Acting Assistant Secretary for Community Planning and Development.

[FR Doc. 2012-16043 Filed 6-28-12; 8:45 am]

BILLING CODE 4210-67-P